SURFACE TRANSPORTATION BOARD

[Docket No. FD 36067]

New Orleans Public Belt Railroad—Temporary Trackage Rights Exemption—Illinois Central Railroad Company

On January 12, 2017, New Orleans Public Belt Railroad (NOPB), a Class III rail carrier, filed a request under 49 CFR 1180.2(d)(8) for a one-year extension of temporary overhead trackage rights over a line of railroad of the Illinois Central Railroad Company (IC), over two segments of IC's rail lines as follows: (1) IC's McComb Subdivision, between IC's connection with the Kansas City Southern Railway Company (KCS) at or near IC milepost 906.4 at East Bridge Junction in Shrewsbury, La., and IC milepost 900.8 at Orleans Junction in New Orleans, La. (approximately 5.6 miles); and (2) IC's Baton Rough Subdivision, between IC milepost 444.2 at Orleans Junction and IC milepost 443.5 at Frellsen Junction in New Orleans, La. (approximately 0.7 miles), for a total distance of approximately 6.3 miles (the Line).

NOPB was authorized to acquire the temporary overhead trackage rights over the Line by notice of exemption served and published in the Federal Register on October 14, 2016 (81 FR 71,161). According to NOPB, the temporary trackage rights permit it to interchange traffic with the Kansas City Southern Railway Company (KCS) on KCS trackage in New Orleans on a trial basis.

Under 49 CFR 1180.2(d)(8), the parties may, prior to the expiration of the temporary trackage rights, file a request for a renewal of the temporary rights for an additional period of up to one year, including the reasons for the extension. NOPB states that the temporary trackage rights are scheduled to expire on January 31, 2017. NOPB further states that the initial operations have been successful, and NOPB and IC have agreed to extend the rights for an additional year, to January 31, 2018, to confirm the longer-term feasibility of operations.

NOPB filed a copy of the amendment to the temporary trackage rights agreement with its request for the one-year extension. NOPB also acknowledges that any further extension of these rights, or a conversion of the rights from temporary to permanent, would require a separate notice of exemption filing pursuant to 49 CFR 1180.4(g).

In accordance with 49 CFR 1180.2(d)(8), NOPB's temporary trackage rights over the Line will be extended for one year and will expire on January 31, 2018. The employee protective conditions imposed in the October 14, 2016 notice remain in effect.

Board decisions and notices are available on our Web site at “WWW.STB.GOV.”

Decided: January 27, 2017.
By the Board, Rachel D. Campbell, Director, Office of Proceedings.
Marline Simeon,
Clearance Clerk.

[FR Doc. 2017-02217 Filed 2-1-17; 8:45 am]

BILLING CODE 4915-01-P